DEPARTMENT OF HEALTH AND HUMAN SERVICES

Centers for Disease Control and Prevention

[Docket Number NIOSH 134-A]

Request for Information: Update of NIOSH Nanotechnology Strategic Plan for Research and Guidance

AGENCY: National Institute for Occupational Safety and Health (NIOSH) of the Centers for Disease Control and Prevention (CDC), Department of Health and Human Services (HHS).

ACTION: Notice of public comment period.

SUMMARY: National Institute for Occupational Safety and Health (NIOSH) of the Centers for Disease Control and Prevention (CDC) seeks comment on the types of hazard identification and risk management research that should be considered for updating the NIOSH 2009 nanotechnology strategic plan.

Public Comment Period: Comments must be received by April 15, 2011.

ADDRESSES: Written comments, identified by docket number NIOSH 134-A, may be submitted by any of the following ways:

• Mail: NIOSH Docket Office, Robert A. Taft Laboratories, MS-C-34, 4676 Columbia Parkway, Cincinnati, Ohio 45226.

• Facsimile: (513) 533-8285.

• E-mail: nioshdocket@cdc.gov.

All information received in response to this notice will be available for public examination and copying at the NIOSH Docket Office, 4676 Columbia Parkway, Room 109, Cincinnati, Ohio 45226. A complete electronic docket containing all comments submitted will be available thirty days after the public comment period on the NIOSH Web page at http://www.cdc.gov/niosh/docket, and comments will be available in writing by request. NIOSH includes all comments received without change in the docket, including any personal information provided. All electronic comments should be formatted as Microsoft Word. Please make reference to docket number NIOSH 134-A.

Background: Since 2004, the National Institute for Occupational Safety and Health (NIOSH) of the Centers for Disease Control and Prevention (CDC) has pioneered research on the toxicological properties and characteristics of nanoparticles. This research has involved characterizing occupationally relevant nanoparticles for predicting whether these particles pose a risk of adverse health effects and for providing guidance on controlling workplace exposures. In September 2005, NIOSH developed a strategic plan to further guide the Institute in identifying and prioritizing nanotechnology research. In 2009 this strategic plan [http://www.cdc.gov/niosh/topics/nanotech/strat_plan.html] was updated based on knowledge gained from results of ongoing NIOSH research [see Progress Toward Safe Nanotechnology in the Workplace; A Report from the NIOSH Nanotechnology Research Center http://www.cdc.gov/niosh/docs/2007-123/] and from stakeholder input.

NIOSH would like to build on the accomplishments of ongoing research [see http://www.cdc.gov/niosh/docs/2010-104/] to develop strategic research goals and objectives through 2015. NIOSH has identified 10 critical research areas for nanotechnology research and communication. These 10 critical research areas are (1) toxicity and internal dose, (2) measurement methods, (3) exposure assessment, (4) epidemiology and surveillance, (5) risk assessment, (6) engineering controls and personal protective equipment (PPE), (7) fire and explosion safety, (8) recommendations and guidance, (9) communication and information, and (10) applications.

NIOSH is considering focusing the overarching strategic research goals for these critical areas on 5 key goals: (1) Provide guidance to protect workers, (2) alert workers, employers, governments, and the public about possible new hazards, (3) assess the hazards of nanomaterials and the risks to workers, (4) help workers by assessing and implementing exposure registries, and (5) assess the level of protection practiced in US workplaces.

NIOSH requests comment on how research in these 10 critical areas and the 5 overarching goals can be enhanced. Examples of requested information include, but are not limited to:

(1) The need for toxicity evaluation and/or workplace exposure characterization of engineered nanoparticles not currently being studied*.

(2) Development of technical and educational guidance materials*.

(3) Development of additional partnerships and collaborations*.

(4) Research in the development of risk management strategies (e.g., exposure assessment, engineering controls)*.

Note: * provide rationale for recommendations.

FOR FURTHER INFORMATION CONTACT: Charles L. Geraci, NIOSH, Robert A. Taft Laboratories, MS-C32, 4676 Columbia Parkway, Cincinnati, Ohio 45226, telephone (513) 533-8339.

Dated: February 28, 2011.
John Howard,
Director, National Institute for Occupational Safety and Health, Centers for Disease Control and Prevention.

[FR Doc. 2011-5110 Filed 3-4-11; 8:45 am]

BILLING CODE 4163-19-P